DEPARTMENT OF ENERGY

Federal Energy Regulatory Commission

Combined Notice of Filings #2

Take notice that the Commission received the following electric rate filings:

Docket Numbers: ER19-2446-001.

Applicants: Midcontinent Independent System Operator, Inc.

Description: Tariff Amendment: 2019-09-06_SA 3332 Southern Indiana Gas & Electric-OSER Substitute GIA (J783) to be effective 7/10/2019.

Filed Date: 9/6/19.

Accession Number: 20190906-5167.

Comments Due: 5 p.m. ET 9/16/19.

Docket Numbers: ER19-2770-000.

Applicants: PJM Interconnection, L.L.C.

Description: § 205(d) Rate Filing: Original WMPA SA No. 5480: Queue No. AD2-002 to be effective 8/5/2019.

Filed Date: 9/9/19.

Accession Number: 20190909-5052.

Comments Due: 5 p.m. ET 9/30/19.

Docket Numbers: ER19-2771-000.

Applicants: New York Independent System Operator, Inc., New York State Electric & Gas Corporation.

Description: § 205(d) Rate Filing: NYISO 205 joint Executed IA among NYISO, NYSEG, and TrAILCo for Mainesburg to be effective 7/31/2019.

Filed Date: 9/9/19.

Accession Number: 20190909-5061.

Comments Due: 5 p.m. ET 9/30/19.

Docket Numbers: ER19-2772-000.

Applicants: New York Independent System Operator, Inc., New York State Electric & Gas Corporation, Trans-Allegheny Interstate Line Company.

Description: § 205(d) Rate Filing: Joint 205 of an executed IA among NYISO, NYSEG and TrAILCO for Pierce Brook to be effective 7/31/2019.

Filed Date: 9/9/19.

Accession Number: 20190909-5072.

Comments Due: 5 p.m. ET 9/30/19.

Docket Numbers: ER19-2773-000.

Applicants: Southwest Power Pool, Inc.

Description: § 205(d) Rate Filing: 3594 Wheatbelt Wind GIA to be effective 8/23/2019.

Filed Date: 9/9/19.

Accession Number: 20190909-5076.

Comments Due: 5 p.m. ET 9/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2019.
Nathaniel J. Davis, Sr.,
Deputy Secretary.

[FR Doc. 2019-19821 Filed 9-12-19; 8:45 am]

BILLING CODE 6717-01-P